DEPARTMENT OF ENERGY

Federal Energy Regulatory Commission

Notice of Attendance at PJM Interconnection, L.L.C. Meetings

The Federal Energy Regulatory Commission (Commission) hereby gives notice that members of the Commission and Commission staff may attend upcoming PJM Interconnection, L.L.C. (PJM) Members Committee and Markets and Reliability Committee meetings, as well as other PJM committee, subcommittee or task force meetings.¹ The Commission and Commission staff may attend the following meetings:

¹ For example, PJM subcommittees and task forces of the standing committees (Operating, Planning and Market Implementation) and senior standing committees (Members and Markets and Reliability) meet on a variety of different topics; they convene and dissolve on an as-needed basis. Therefore, the Commission and Commission staff may monitor the various meetings posted on the PJM Web site.

PJM Members Committee

• March 28, 2013 (Wilmington, DE)

• April 25, 2013 (Wilmington, DE)

• May 16, 2013 (White Sulphur Springs, West VA)

Date To Be Determined

• June 27, 2013 (Wilmington, DE)

• August 1, 2013 (Wilmington, DE)

• September 26, 2013 (Wilmington, DE)

• October 24, 2013 (Wilmington, DE)

• December 5, 2013 (Wilmington, DE)

PJM Markets and Reliability Committee

• March 28, 2013 (Wilmington, DE)

• April 25, 2013 (Wilmington, DE)

• May 30, 2013 (Wilmington, DE)

• June 27, 2013 (Wilmington, DE)

• August 1, 2013 (Wilmington, DE)

• August 29, 2013 (Wilmington, DE)

• September 26, 2013 (Wilmington, DE)

• October 24, 2013 (Wilmington, DE)

• December 5, 2013 (Wilmington, DE)

PJM Market Implementation Committee

• April 10, 2013 (Norristown, PA)

• May 8, 2013 (Norristown, PA)

• June 5, 2013 (Norristown, PA)

• July 10, 2013 (Norristown, PA)

• August 7, 2013 (Norristown, PA)

• September 11, 2013 (Norristown, PA)

• October 9, 2013 (Norristown, PA)

• November 6, 2013 (Norristown, PA)

• December 11, 2013 (Norristown, PA)

The discussions at each of the meetings described above may address matters at issue in pending proceedings before the Commission, including the following currently pending proceedings:

Docket No. EL05-121, PJM Interconnection, L.L.C.

Docket No. EL08-14, Black Oak Energy LLC, et al., v. FERC

Docket No. EL10-52, Central Transmission, L.L.C. v. PJM Interconnection, L.L.C.

Docket No. ER09-1148, PPL Electric Utilities Corporation

Docket No. ER09-1256, Potomac-Appalachian Transmission Highline, L.L.C.

Docket Nos. ER09-1589 and EL10-6, FirstEnergy Service Company

Docket Nos. ER10-253 and EL10-14, Primary Power, L.L.C.

Docket No. ER11-1844, Midwest Independent Transmission System Operator, Inc

Docket Nos. ER11-2183 and EL11-32, American Electric Power Service Corporation

Docket Nos. ER11-2814 and ER11-2815, PJM Interconnection, L.L.C. and American Transmission Systems, Inc.

Docket No. ER11-4106, PJM Interconnection, L.L.C.

Docket No. ER11-4628, PJM Interconnection, L.L.C.

Docket No. EL12-8, DC Energy, L.L.C. and DC Energy Mid-Atlantic, L.L.C. vs. PJM Interconnection, L.L.C.

Docket No. EL12-54, Viridity Energy, Inc. v. PJM Interconnection, L.L.C.

Docket No. EL12-69, Primary Power LLC v. PJM Interconnection, L.L.C.

Docket No. AD12-1 and ER11-4081, Midwest Independent Transmission

System Operator, Inc.

Docket No. AD12-16, Capacity Deliverability Across the Midwest Independent

Transmission System Operator, Inc./PJM Interconnection, L.L.C. Seam

Docket No. EL13-10, North American Natural Resources, Inc. v. PJM Interconnection, L.L.C. et. al.

Docket No. ER12-91, PJM Interconnection, L.L.C.

Docket No. ER12-92, PJM Interconnection, L.L.C., et al.

Docket No. ER12-513, PJM Interconnection, L.L.C.

Docket No. ER12-1173, PJM Interconnection, L.L.C., et al.

Docket No. ER12-1178, PJM Interconnection, L.L.C.

Docket No. ER12-1204, PJM Interconnection, L.L.C.

Docket No. ER12-1761, PJM Interconnection, L.L.C.

Docket No. ER12-2274, Public Service Electric and Gas Company

Docket No. ER12-2391, PJM Interconnection, L.L.C.

Docket No. ER12-2399, PJM Interconnection, L.L.C.

Docket No. ER12-2708, PJM Interconnection, L.L.C.

Docket No. EL13-47, FirstEnergy Solutions Corporation v. PJM Interconnection, L.L.C. et al.

Docket No. ER13-90, Public Service Electric and Gas Company and PJM Interconnection, L.L.C.

Docket No. ER13-195, Indicated PJM Transmission Owners

Docket No. ER13-198, PJM Interconnection, L.L.C.

Docket No. ER13-232, American Electric Power Service Corporation

Docket No. ER13-233, American Electric Power Service Corporation

Docket No. ER13-234, American Electric Power Service Corporation

Docket No. ER13-235, American Electric Power Service Corporation

Docket No. ER13-236, American Electric Power Service Corporation

Docket No. ER13-237, American Electric Power Service Corporation

Docket No. ER13-238, American Electric Power Service Corporation

Docket No. ER13-239, American Electric Power Service Corporation

Docket No. ER13-240, American Electric Power Service Corporation

Docket No. ER13-347, PJM Interconnection, L.L.C.

Docket No. ER13-397, PJM Interconnection, L.L.C.

Docket No. ER13-486, PJM Interconnection, L.L.C.

Docket No. ER13-535, PJM Interconnection, L.L.C.

Docket No. ER13-539. PJM Interconnection, L.L.C., et al.

Docket No. ER13-694, PJM Interconnection, L.L.C.

Docket No. ER13-703, PJM Interconnection, L.L.C.

Docket No. ER13-793, Eastern Kentucky Power Cooperative

Docket No. ER13-887, PJM Interconnection, L.L.C.

Docket No. ER13-1018, Brandon Shores LLC and C.P. Crane LLC

Docket No. ER13-1023, PJM Interconnection, L.L.C.

Docket No. ER13-1025, Calpine Energy Services LP

Docket No. ER13-1033, Linden VFT, LLC and PJM Interconnection, L.L.C.

Docket No. ER13-1044, PJM Interconnection, L.L.C.

Docket No. ER13-1051, Linden VFT, LLC.

Docket No. ER13-1052, PJM Interconnection, L.L.C. and the Midwest Independent Transmission System Operator, Inc.

For additional meeting information, see: http://www.pjm.com/committees-and-groups.aspx and http://www.pjm.com/Calendar.aspx.

The meetings are open to stakeholders. For more information, contact Valerie Martin, Office of Energy Market Regulation, Federal Energy Regulatory Commission at (202) 502-6139 or Valerie.Martin@ferc.gov.

Dated: March 22, 2013.
Kimberly D. Bose,
Secretary.

[FR Doc. 2013-07301 Filed 3-28-13; 8:45 am]

BILLING CODE 6717-01-P